FEDERAL MARITIME COMMISSION

[Docket No. 20-14]

Intermodal Motor Carriers Conference, American Trucking Associations, Inc., Complainant v. Ocean Carrier Equipment Management Association Inc., Consolidated Chassis Management, LLC, CMA CGM S.A., COSCO SHIPPING Lines Co. Ltd., Evergreen Line Joint Service Agreement, FMC No. 011982, Hapag-Lloyd AG, HMM Co. Ltd., Maersk A/S, MSC Mediterranean Shipping Company S.A., Ocean Network Express Pte. Ltd., Wan Hai Lines Ltd., Yang Ming Marine Transport Corp., and Zim Integrated Shipping Services, Respondents; Notice of Filing of Complaint and Assignment

Served: August 24, 2020.

Notice is given that a complaint has been filed with the Federal Maritime Commission (Commission) by the Intermodal Motor Carriers Conference (IMCC) of the American Trucking Associations, Inc. (ATA), hereinafter “Complainant”, against the Ocean Carrier Equipment Management Association Inc. (OCEMA), Consolidated Chassis Management, LLC (CCM), CMA CGM S.A., COSCO SHIPPING Lines Co. Ltd., Evergreen Line Joint Service Agreement, (FMC No. 011982), Hapag-Lloyd AG, HMM Co. Ltd., Maersk A/S, MSC Mediterranean Shipping Company S.A., Ocean Network Express Pte. Ltd., Wan Hai Lines Ltd., Yang Ming Marine Transport Corp., and Zim Integrated Shipping Services, hereinafter “Respondents”. Complainant states they are “a conference of the American Trucking Associations, Inc.” and “include ATA member companies engaged in intermodal transportation of property, including the interchange of chassis with respect to receipt and return of the containers of respondent ocean carriers.” Complainants state that Respondents include: OCEMA, “an association of major U.S. and foreign flag international common carriers; CCM, that operates a “chassis provision model” for members; and those ocean carriers and a carrier agreement, named in the case caption, which are each members of OCEMA and/or CCM.

Complainant alleges that Respondents “have adopted and imposed unjust and unreasonable regulations and engaged in unjust and unreasonable practices by requiring the use of OCEMA member default chassis providers, and denying motor carriers their right to select the chassis provider for merchant haulage movements, all in violation of 46 U.S.C. 41102(c).” Complainant seeks cease and desist orders and other relief.

The full text of the complaint can be found in the Commission's Electronic Reading Room at https://www2.fmc.gov/readingroom/proceeding/20-14/.

This proceeding has been assigned to Office of Administrative Law Judges. The initial decision of the presiding office in this proceeding shall be issued by August 24, 2021, and the final decision of the Commission shall be issued by March 10, 2022.

Rachel Dickon,
Secretary.

[FR Doc. 2020-18974 Filed 8-27-20; 8:45 am]

BILLING CODE 6730-02-P